INTERNATIONAL TRADE COMMISSION

[Investigation No. 337-TA-1095]

Certain Load Supporting Systems, Including Composite Mat Systems, and Components Thereof; Commission Determination Not To Review an Initial Determination Granting an Unopposed Motion To Amend the Complaint and Notice of Investigation

AGENCY: U.S. International Trade Commission.

ACTION: Notice.

SUMMARY: Notice is hereby given that the U.S. International Trade Commission has determined not to review an initial determination (Order No. 4) granting an unopposed motion to amend the complaint and notice of investigation to add a certain respondent.

FOR FURTHER INFORMATION CONTACT: Lucy Grace D. Noyola, Office of the General Counsel, U.S. International Trade Commission, 500 E Street SW, Washington, DC 20436, telephone 202-205-3438. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on January 22, 2018, based on a complaint filed by Newpark Mats & Integrated Services LLC of The Woodlands, Texas (“Newpark”). 83 FR 3022 (Jan. 22, 2018). The complaint alleges violations of section 337 of the Tariff Act of 1930, as amended, 19 U.S.C. 1337, in the importation into the United States, the sale for importation, and the sale within the United States after importation of certain load supporting systems, including composite mat systems, and components thereof by reason of infringement of certain claims of U.S. Patent Nos. 6,511,257 and 6,695,527. The notice of investigation named as respondents Checkers Industrial Products, LLC of Broomfield, Colorado; Checkers Safety Group UK LTD of Cheshire, United Kingdom; and Zigma Ground Solutions LTD of Essex, United Kingdom (collectively, “Respondents”). The Office of Unfair Import Investigations was not named as a party to the investigation.

On February 14, 2018, Newpark filed a motion to amend the complaint and notice of investigation to add Isokon d.o.o. of Slovenske Konjice, Slovenia (“Isokon”) as a respondent. Respondents do not oppose the motion.

On February 20, 2018, the presiding administrative law judge (“ALJ”) issued an initial determination (“ID”) (Order No. 4), granting the motion to amend the complaint and notice of investigation. The ALJ found good cause for the amendment. The ALJ found that Newpark recently learned through discovery of Isokon's role in the sale for importation of products accused in this investigation and that Newpark did not know of Isokon's role when it filed the original complaint. The ALJ found that the amendment will not prejudice the public interest or the parties. The ALJ also found the amendment is in the public interest because it would permit development of a record that identifies the correct entities that import into the United States, sell for importation, and/or sell within the United States after importation the products accused in the investigation. No petitions for review of the ID were filed.

The Commission has determined not to review the subject ID.

The authority for the Commission's determination is contained in section 337 of the Tariff Act of 1930, as amended (19 U.S.C. 1337), and in part 210 of the Commission's Rules of Practice and Procedure (19 CFR part 210).

By order of the Commission.
Issued: March 12, 2018.
Lisa R. Barton,
Secretary to the Commission.

[FR Doc. 2018-05323 Filed 3-15-18; 8:45 am]

BILLING CODE 7020-02-P